DEPARTMENT OF ENERGY

Federal Energy Regulatory Commission

Combined Notice of Filings #1

Take notice that the Commission received the following electric corporate filings:

Docket Numbers: EC15-97-000.

Applicants: American Transmission Company LLC, Wisconsin Power and Light Company.

Description: Joint Application for Authority to Acquire Transmission Facilities Under Section 203 of the FPA of American Transmission Company LLC, et al.

Filed Date: 3/17/15.

Accession Number: 20150317-5223.

Comments Due: 5 p.m. ET 4/7/15.

Docket Numbers: EC15-98-000.

Applicants: Union Power Partners, L.P., Entergy Arkansas, Inc., Entergy Gulf States Louisiana, L.L.C., Entergy Texas, Inc.

Description: Joint Application for Section 203 Authorization of Union Power Partners, L.P., Entergy Arkansas, Inc., Entergy Gulf States Louisiana, L.L.C., and Entergy Texas, Inc.

Filed Date: 3/17/15.

Accession Number: 20150317-5227.

Comments Due: 5 p.m. ET 4/7/15.

Take notice that the Commission received the following exempt wholesale generator filings:

Docket Numbers: EG15-67-000.

Applicants: Arbuckle Mountain Wind Farm LLC.

Description: Notice of Self-Certification of Exempt Wholesale Generator Status of Arbuckle Mountain Wind Farm LLC.

Filed Date: 3/18/15.

Accession Number: 20150318-5129.

Comments Due: 5 p.m. ET 4/8/15.

Docket Numbers: EG15-68-000.

Applicants: Waverly Wind Farm LLC.

Description: Notice of Self-Certification of Exempt Wholesale Generator Status of Waverly Wind Farm LLC.

Filed Date: 3/18/15.

Accession Number: 20150318-5130.

Comments Due: 5 p.m. ET 4/8/15.

Take notice that the Commission received the following electric rate filings:

Docket Numbers: ER11-1933-005.

Applicants: Green Mountain Power Corporation.

Description: Non-Material Change-in-Status Report of Green Mountain Power Corporation.

Filed Date: 3/17/15.

Accession Number: 20150317-5228.

Comments Due: 5 p.m. ET 4/7/15.

Docket Numbers: ER15-879-001.

Applicants: Southwest Power Pool, Inc.

Description: Tariff Amendment per 35.17(b): 2446R1 Substitute Municipal Energy Agency of Nebraska NITSA and NOA to be effective 12/1/2014.

Filed Date: 3/17/15.

Accession Number: 20150317-5068.

Comments Due: 5 p.m. ET 4/7/15.

Docket Numbers: ER15-902-000.

Applicants: Pacific Summit Energy LLC.

Description: Amendment to January 23, 2015 Pacific Summit Energy LLC tariff filing.

Filed Date: 3/16/15.

Accession Number: 20150316-5256.

Comments Due: 5 p.m. ET 3/30/15.

Docket Numbers: ER15-939-001.

Applicants: Western Massachusetts Electric Company.

Description: Tariff Amendment per 35.17(b): Amendment 2 Revised HG&E Asset Demarcation Agreement to be effective 1/5/2015.

Filed Date: 3/17/15.

Accession Number: 20150317-5162.

Comments Due: 5 p.m. ET 4/7/15.

Docket Numbers: ER15-980-001.

Applicants: Midcontinent Independent System Operator, Inc.

Description: Tariff Amendment per 35.17(b): 2015-03-17_SA 2740 ATC-WE FCA Amendment to be effective 4/6/2015.

Filed Date: 3/17/15.

Accession Number: 20150317-5175.

Comments Due: 5 p.m. ET 4/7/15.

Docket Numbers: ER15-1308-000.

Applicants: Kingfisher Wind, LLC.

Description: Initial rate filing per 35.12 Kingfisher Wind FERC Electric Tariff Volume No. 1 MBR Tariff to be effective 6/30/2015.

Filed Date: 3/17/15.

Accession Number: 20150317-5157.

Comments Due: 5 p.m. ET 4/7/15.

Docket Numbers: ER15-1309-000.

Applicants: Bethpage Energy Center 3, LLC.

Description: Section 205(d) rate filing per 35.13(a)(2)(iii): Market-Based Rate Tariff Revisions to be effective 3/18/2015.

Filed Date: 3/17/15.

Accession Number: 20150317-5177.

Comments Due: 5 p.m. ET 4/7/15.

Docket Numbers: ER15-1310-000.

Applicants: Calpine Bethlehem, LLC.

Description: Section 205(d) rate filing per 35.13(a)(2)(iii): Market-Based Rate Tariff Revisions to be effective 3/18/2015.

Filed Date: 3/17/15.

Accession Number: 20150317-5180.

Comments Due: 5 p.m. ET 4/7/15.

Docket Numbers: ER15-1311-000.

Applicants: Calpine Energy Services, L.P.

Description: Section 205(d) rate filing per 35.13(a)(2)(iii): Market-Based Rate to be effective 3/18/2015.

Filed Date: 3/17/15.

Accession Number: 20150317-5185.

Comments Due: 5 p.m. ET 4/7/15.

Docket Numbers: ER15-1312-000.

Applicants: Calpine Mid-Atlantic Generation, LLC.

Description: Section 205(d) rate filing per 35.13(a)(2)(iii): Market-Based Rate Tariff Revisions to be effective 3/18/2015.

Filed Date: 3/17/15.

Accession Number: 20150317-5188.

Comments Due: 5 p.m. ET 4/7/15.

Docket Numbers: ER15-1313-000.

Applicants: Calpine Mid Merit, LLC.

Description: Section 205(d) rate filing per 35.13(a)(2)(iii): Market-Based Rate Tariff Revisions to be effective 3/18/2015.

Filed Date: 3/17/15.

Accession Number: 20150317-5189.

Comments Due: 5 p.m. ET 4/7/15.

Docket Numbers: ER15-1314-000.

Applicants: Calpine New Jersey Generation, LLC.

Description: Section 205(d) rate filing per 35.13(a)(2)(iii): Market-Based Rate Tariff Revisions to be effective 3/18/2015.

Filed Date: 3/17/15.

Accession Number: 20150317-5190.

Comments Due: 5 p.m. ET 4/7/15.

Docket Numbers: ER15-1315-000.

Applicants: Calpine Power America—CA, LLC.

Description: Section 205(d) rate filing per 35.13(a)(2)(iii): Market-Based Rate Tariff Revisions to be effective 3/18/2015.

Filed Date: 3/17/15.

Accession Number: 20150317-5191.

Comments Due: 5 p.m. ET 4/7/15.

Docket Numbers: ER15-1316-000.

Applicants: Calpine Vineland Solar, LLC.

Description: Section 205(d) rate filing per 35.13(a)(2)(iii): Market-Based Rate Tariff Revisions to be effective 3/18/2015.

Filed Date: 3/17/15.

Accession Number: 20150317-5192.

Comments Due: 5 p.m. ET 4/7/15.

Docket Numbers: ER15-1317-000.

Applicants: CES Marketing IX, LLC.

Description: Section 205(d) rate filing per 35.13(a)(2)(iii): Market-Based Rate Tariff Revisions to be effective 3/18/2015.

Filed Date: 3/17/15.

Accession Number: 20150317-5193.

Comments Due: 5 p.m. ET 4/7/15.

Docket Numbers: ER15-1318-000.

Applicants: CES Marketing X, LLC.

Description: Section 205(d) rate filing per 35.13(a)(2)(iii): Market-Based Rate Tariff Revisions to be effective 3/18/2015.

Filed Date: 3/17/15.

Accession Number: 20150317-5194.

Comments Due: 5 p.m. ET 4/7/15.

Docket Numbers: ER15-1319-000.

Applicants: CPN Bethpage 3rd Turbine, Inc.

Description: Section 205(d) rate filing per 35.13(a)(2)(iii): Market-Based Rate Tariff Revisions to be effective 3/18/2015.

Filed Date: 3/17/15.

Accession Number: 20150317-5195.

Comments Due: 5 p.m. ET 4/7/15.

Docket Numbers: ER15-1320-000.

Applicants: Nissequogue Cogen Partners.

Description: Section 205(d) rate filing per 35.13(a)(2)(iii): Market-Based Rate Tariff Revisions to be effective 3/18/2015.

Filed Date: 3/17/15.

Accession Number: 20150317-5196.

Comments Due: 5 p.m. ET 4/7/15.

Docket Numbers: ER15-1321-000.

Applicants: Power Contract Financing, L.L.C.

Description: Section 205(d) rate filing per 35.13(a)(2)(iii): Market-Based Rate Tariff Revisions to be effective 3/18/2015.

Filed Date: 3/17/15.

Accession Number: 20150317-5197.

Comments Due: 5 p.m. ET 4/7/15.

Docket Numbers: ER15-1322-000.

Applicants: TBG Cogen Partners.

Description: Section 205(d) rate filing per 35.13(a)(2)(iii): Market-Based Rate Tariff Revisions to be effective 3/18/2015.

Filed Date: 3/17/15.

Accession Number: 20150317-5198.

Comments Due: 5 p.m. ET 4/7/15.

Docket Numbers: ER15-1323-000.

Applicants: Westbrook Energy Center, LLC.

Description: Section 205(d) rate filing per 35.13(a)(2)(iii): Market-Based Rate Tariff Revisions to be effective 3/18/2015.

Filed Date: 3/17/15.

Accession Number: 20150317-5199.

Comments Due: 5 p.m. ET 4/7/15.

Docket Numbers: ER15-1324-000.

Applicants: Zion Energy LLC.

Description: Section 205(d) rate filing per 35.13(a)(2)(iii): Market-Based Rate Tariff Revisions to be effective 3/18/2015.

Filed Date: 3/17/15.

Accession Number: 20150317-5200.

Comments Due: 5 p.m. ET 4/7/15.

Docket Numbers: ER15-1325-000.

Applicants: PJM Interconnection, L.L.C.

Description: Section 205(d) rate filing per 35.13(a)(2)(iii): Service Agreement No. 3748; Queue No. W2-061 to be effective 2/24/2015.

Filed Date: 3/17/15.

Accession Number: 20150317-5201.

Comments Due: 5 p.m. ET 4/7/15.

Docket Numbers: ER15-1326-000.

Applicants: KIAC Partners.

Description: Section 205(d) rate filing per 35.13(a)(2)(iii): Market-Based Rate Tariff Revisions to be effective 3/18/2015.

Filed Date: 3/17/15.

Accession Number: 20150317-5202.

Comments Due: 5 p.m. ET 4/7/15.

Docket Numbers: ER15-1328-000.

Applicants: Southern California Edison Company.

Description: Section 205(d) rate filing per 35.13(a)(2)(iii): GIA and Distribution Service Agmt with SunEdison Utility Solutions to be effective 3/19/2015.

Filed Date: 3/18/15.

Accession Number: 20150318-5086.

Comments Due: 5 p.m. ET 4/8/15.

Docket Numbers: ER15-1329-000.

Applicants: PJM Interconnection, L.L.C.

Description: Section 205(d) rate filing per 35.13(a)(2)(iii): Service Agreement No. 4095; Queue No. X3-087 to be effective 2/19/2015.

Filed Date: 3/18/15.

Accession Number: 20150318-5098.

Comments Due: 5 p.m. ET 4/8/15.

Docket Numbers: ER15-1330-000.

Applicants: PJM Interconnection, L.L.C.

Description: Section 205(d) rate filing per 35.13(a)(2)(iii): Service Agreement No. 3236; Queue No. W4-064 to be effective 3/6/2015.

Filed Date: 3/18/15.

Accession Number: 20150318-5112.

Comments Due: 5 p.m. ET 4/8/15.

Docket Numbers: ER15-1331-000.

Applicants: PJM Interconnection, L.L.C.

Description: Tariff Withdrawal per 35.15: Notice of Cancellation of Service Agreement No. 3206; Queue No. W4-014 to be effective 3/26/2015.

Filed Date: 3/18/15.

Accession Number: 20150318-5117.

Comments Due: 5 p.m. ET 4/8/15.

Docket Numbers: ER15-1332-000.

Applicants: Arbuckle Mountain Wind Farm LLC.

Description: Initial rate filing per 35.12 MBR Application to be effective 5/17/2015.

Filed Date: 3/18/15.

Accession Number: 20150318-5125.

Comments Due: 5 p.m. ET 4/8/15.

Docket Numbers: ER15-1333-000.

Applicants: Waverly Wind Farm LLC.

Description: Initial rate filing per 35.12 MBR Application to be effective 5/17/2015.

Filed Date: 3/18/15.

Accession Number: 20150318-5126.

Comments Due: 5 p.m. ET 4/8/15.

Docket Numbers: ER15-1334-000.

Applicants: Tucson Electric Power Company.

Description: Section 205(d) rate filing per 35.13(a)(2)(iii): Large Generator Interconnection Agreement to be effective 2/17/2015.

Filed Date: 3/18/15.

Accession Number: 20150318-5136.

Comments Due: 5 p.m. ET 4/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 18, 2015.
Nathaniel J. Davis, Sr.,
Deputy Secretary.

[FR Doc. 2015-06692 Filed 3-24-15; 8:45 am]

BILLING CODE 6717-01-P